UNIFIED CARRIER REGISTRATION PLAN

Sunshine Act Meetings

TIME AND DATE: October 28, 2025, 1:00 p.m. to 4:00 p.m., Eastern time.

PLACE: The meeting will be accessible via conference call and via Zoom Meeting and Screenshare. Any interested person may call (i) 1-929-205-6099 (US Toll) or 1-669-900-6833 (US Toll), Meeting ID: 929 6415 1687, to listen and participate in this meeting. The website to participate via Zoom Meeting and Screenshare is https://kellen.zoom.us/meeting/register/DqjOGBmGToSFEAN94vV4tA.

STATUS: This meeting will be open to the public.

MATTERS TO BE CONSIDERED: The Unified Carrier Registration Plan Enforcement Subcommittee (the “Subcommittee”) will continue its work in developing and implementing the Unified Carrier Registration Plan and Agreement. The subject matter of this meeting will include:

Proposed Agenda

I. Call to Order—UCR Enforcement Subcommittee Chair

The UCR Enforcement Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Enforcement Subcommittee Chair

For Discussion and Possible Subcommittee Action

The Subcommittee Agenda will be reviewed, and the Subcommittee will consider adoption.

Ground Rules

➢ Subcommittee action only to be taken in designated areas on agenda.

IV. Review and Approval of Subcommittee Minutes From the July 16, 2025, Meeting—UCR Enforcement Subcommittee Chair

For Discussion and Possible Subcommittee Action

The draft minutes from the July 16, 2025, Subcommittee meeting will be reviewed. The Subcommittee will consider action to approve.

V. Enforcement Performance Snapshot Through Q3 2025—UCR Enforcement Subcommittee Chair, UCR Enforcement Subcommittee Vice-Chair

The UCR Enforcement Subcommittee Chair and Vice-Chair will present an overview of enforcement activity and compliance rates through the third quarter of 2025, highlighting trends and areas of focus.

VI. Planning for 2026 Enforcement Awareness Initiatives—UCR Enforcement Subcommittee Chair, UCR Enforcement Subcommittee Vice-Chair

The UCR Enforcement Subcommittee Chair and Vice-Chair will lead a discussion on the proposed dates for the 2026 Enforcement Awareness Weeks: January 11-17 (aligned with 2025 schedule and avoids the MLK holiday); June 7-13 (scheduled to avoid Juneteenth observance).

VII. Jurisdictional Mandates—Level 5 & 7 Inspections on Passenger Carriers—UCR Enforcement Subcommittee Chair, UCR Enforcement Subcommittee Vice-Chair

The UCR Enforcement Chair and Vice-Chair will review current mandates requiring Level 5 and Level 7 inspections for passenger carriers, including jurisdictional compliance and enforcement strategies.

VIII. Expanding Jurisdictional Engagement—UCR Enforcement Subcommittee Chair, UCR Enforcement Subcommittee Vice-Chair

The UCR Enforcement Chair and Vice-Chair will lead a discussion on outreach efforts to additional jurisdictions to broaden enforcement collaboration.

IX. Visor Cards for Enforcement Personnel—UCR Enforcement Subcommittee Chair, UCR Enforcement Subcommittee Vice-Chair

The UCR Enforcement Chair and Vice-Chair will provide an update on the production and distribution of UCR visor cards to support enforcement personnel.

X. Virtual Enforcement Training—UCR Enforcement Subcommittee Chair, UCR Enforcement Subcommittee Vice-Chair

The UCR Enforcement Chair and Vice-Chair will lead a discussion concerning the establishment of a quarterly virtual training series for enforcement officers, modeled after the successful UCR auditor training program. The initiative aims to enhance knowledge sharing, standardization, and professional development.

XI. Other Business—UCR Enforcement Subcommittee Chair

The UCR Enforcement Subcommittee Chair will call for any other items Subcommittee members would like to discuss.

XII. Adjournment—UCR Enforcement Subcommittee Chair

The UCR Enforcement Subcommittee Chair will adjourn the meeting.

The agenda will be available no later than 5:00 p.m. Eastern time, October 20, 2025 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2025-19647 Filed 10-21-25; 4:15 pm]

BILLING CODE 4910-YL-P